NATIONAL AERONAUTICS AND SPACE ADMINISTRATION

[Notice (06-017)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to the Desk Officer for NASA, Office of Information and Regulatory Affairs, Room 10236, New Executive Office Building, Washington, DC 20503.

FOR FURTHER INFORMATION CONTACT: Requests for additional information or copies of the information collection instrument(s) and instructions should be directed to Mr. Walter Kit, Reports Officer, Office of the Chief Information Officer, NASA Headquarters, 300 E Street SW., Mail Suite JA000, Washington, DC 20546, 202-358-1350, walter.kit-1@nasa.gov.

SUPPLEMENTARY INFORMATION:

I. Abstract

NASA's Destination Tomorrow is an adult science literacy program. The Destination Tomorrow Survey is required to continually modify and improve NASA's Destination Tomorrow ™ program. NASA's Destination Tomorrow ™ program is an educational resource for elementary teachers. Feedback from educators will help to modify and adjust this resource to meet the needs of educators.

The information is used by NASA Center for Distance Learning to effectively maintain and improve NASA's Destination Tomorrow ™ program.

II. Method of Collection

NASA collects this information by means of a telephone survey that will be taken of registered station managers that air the show. Completion of this survey will be entirely voluntary.

III. Data

Title: NASA's Destination Tomorrow Survey.

OMB Number: 2700-.

Type of Review: New Collection.

Affected Public: State, Local, or Tribal Government, or Not-for-profit institutions.

Estimated Number of Respondents: 946.

Total Annual Responses: 300.

Estimated Time Per Response: 15 minutes.

Estimated Total Annual Burden Hours: 75.

Estimated Total Annual Cost: $0.

IV. Requests for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: March 8, 2006.
Patricia L. Dunnington,
Chief Information Officer.

[FR Doc. E6-3593 Filed 3-13-06; 8:45 am]

BILLING CODE 7510-13-P